ELECTION ASSISTANCE COMMISSION

Notice of Meeting of the EAC Board of Advisors

AGENCY: U.S. Election Assistance Commission.

ACTION: Notice of public meeting for EAC Board of Advisors.

Date and Time: Monday, January 22, 2018, 8:30 a.m.-5:00 p.m. and Tuesday, January 23, 2018, 8:15-11:30 a.m.

Place: Hyatt Regency Coral Gables, 50 Alhambra Plaza, Coral Gables, FL 33134, Phone: (305) 441-1234.

Purpose: In accordance with the Federal Advisory Committee Act (FACA), Public Law 92-463, as amended (5 U.S.C. Appendix 2), the U.S. Election Assistance Commission (EAC) Board of Advisors will meet to address its responsibilities under the Help America Vote Act of 2002 (HAVA), to present its views on issues in the administration of Federal elections, formulate recommendations to the EAC, and receive updates on EAC activities.

Agenda: The Board of Advisors will receive an overview and updates on EAC programs and agency operations. The Board of Advisors will receive updates on the Voluntary Voting System Guidelines (VVSG) 2.0 and on equipment certification. The Board will consider a resolution(s) on VVSG recommendations. The Board will hear a panel discussion on Election Security.

The Board of Advisors will conduct committee breakout sessions and hear committee reports. The Board of Advisors will elect officers, appoint Board of Advisors committee members and chairs, and consider other administrative matters.

Supplementary: Members of the public may submit relevant written statements to the Board of Advisors with respect to the meeting no later than 5:00 p.m. EDT on Tuesday, January 16, 2018. Statements may be sent via email at facaboards@eac.gov, via standard mail addressed to the U.S. Election Assistance Commission, 1335 East West Highway, Suite 4300, Silver Spring, MD 20910, or by fax at 301-734-3108.

This meeting will be open to the public.

Person To Contact for Information: Bryan Whitener, Telephone: (301) 563-3961.

Bryan Whitener,
Director, National Clearinghouse on Elections, U.S. Election Assistance Commission.

[FR Doc. 2018-00054 Filed 1-4-18; 8:45 am]

BILLING CODE 6820-KF-P